OVERSEAS PRIVATE INVESTMENT CORPORATION

Sunshine Act Notice

OPIC Annual Public Hearing

OPIC's Sunshine Act notice of its Annual Public Hearing was published in the Federal Register (Volume 75, Number 236, Page 76758) on December 9, 2010. No requests were received to provide testimony or submit written statements for the record; therefore, OPIC's Annual Public Hearing scheduled for 3:30 p.m., January 20, 2011 has been cancelled.

Contact Person for Information: Information on the hearing cancellation may be obtained from Connie M. Downs at (202) 336-8438, via facsimile at (202) 218-0136, or via e-mail at Connie.Downs@opic.gov.

Dated: January 6, 2011.
Connie M. Downs,
OPIC Corporate Secretary.

[FR Doc. 2011-323 Filed 1-6-11; 4:15 pm]

BILLING CODE 3210-01-P